DEPARTMENT OF THE INTERIOR

National Park Service

[NPS-WASO-NRNHL-DTS#-25422;PPWOCRADI0, PCU00RP14.R50000]

National Register of Historic Places; Notification of Pending Nominations and Related Actions

AGENCY: National Park Service, Interior.

ACTION: Notice.

SUMMARY: The National Park Service is soliciting comments on the significance of properties nominated before April 14, 2018, for listing or related actions in the National Register of Historic Places.

DATES: Comments should be submitted by May 18, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before April 14, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Benton County

Carpenter Building, 136 E Main, Gentry, SG100002447

Calhoun County

Shumaker Naval Ammunition Depot (NAD) 500-Man Barracks, S side of AR 274 between Spellman Rd. & AR 203, East Camden, SG100002448

Shumaker Naval Ammunition Depot (NAD) Administration Building, 6415 Spellman Rd., East Camden, SG100002449

Craighead County

Stuck, C.S. & Sons, Lumber Office Building, 215 Union, Jonesboro, SG100002450

Logan County

Mount Salem Church and School, 553 Mt. Salem Rd. #101, Paris vicinity, SG100002452

Nevada County

Nevada County Courthouse, 215 E 2nd St., Prescott, SG100002454

Ouachita County

Washington Street Historic District (Boundary Increase), N & S Agee St. roughly between Clifton & Maple Sts., Camden, BC100002455

Pulaski County

Fulk—Arkansas Democrat Building, (Thompson, Charles L., Design Collection TR), 613-615 Main St., Little Rock, MP100002456

Mosaic Templars State Temple, 906 S Broadway St., Little Rock, SG100002457

Sevier County

Lockesburg High School Gymnasium, 128 E Main St., Lockesburg, SG100002458

Washington County

Deepwood House, 4697 W Finger Rd., Fayetteville vicinity, SG100002459

NEW YORK

Erie County

New York Central Black Rock Freight House, (Black Rock Planning Neighborhood MPS), 68-120 Tonawanda St., Buffalo, MP100002461

Greene County

Haines, Aaron, Family Cemetery, 5132 NY 23A, Haines Falls, SG100002462

Niagara County

Seippel Bakery and Richard Apartments, 531 3rd St., Niagara Falls, SG100002463

Onondaga County

Hawley-Green Street Historic District (Boundary Increase), Bounded by Wayne, Lodi, Hawley, & N McBride Sts., Syracuse, BC100002464

Orange County

Crane House, 220 Dosen Rd., Wallkill vicinity, SG100002465

St. Lawrence County

First Baptist Church of Ogdensburg Complex, 617 State St., Ogdensburg, SG100002466

TEXAS

Bell County

Gault Archaeological Site, Address Restricted, Florence vicinity, SG100002469

Bexar County

St. John's Seminary, 222 E Mitchell St., San Antonio, SG100002470

Trinity University Historic District, Roughly bounded by E. Hildebrand, E Mulberry, & Bushnell Aves., Stadium Dr., Kings Ct., Ledge, Shook, & Campus Lns., San Antonio, SG100002471

Hays County

Four Winns Ranch, 234 & 236 Winn Valley Dr., Wimberly, SG100002472

Tarrant County

Oakwood Cemetery Historic District, 701 Grand Ave., Fort Worth, SG100002473

WASHINGTON

King County

Covington Electrical Substation, Bonneville Power Administration, (Bonneville Power Administration Pacific Northwest Transmission System MPS), 28401 Covington Way SE, Covington, MP100002475

A request for removal has been made for the following resource:

ARKANSAS

Craighead County

Stuck, C.A., and Sons Lumber, 215 Union St., Jonesboro, OT02001597

Additional documentation has been received for the following resource:

UTAH

Salt Lake County

Clift Building, (Salt Lake City Business District MRA), 10 W Broadway (300 South), Salt Lake City, AD82004139

Nominations submitted by Federal Preservation Officers:

The State Historic Preservation Officer reviewed the following nominations and responded to the Federal Preservation Officer within 45 days of receipt of the nominations and supports listing the properties in the National Register of Historic Places.

KENTUCKY

Jefferson County

Louisville Veterans Administration Hospital, (United States Third Generation Veterans Hospitals, 1946-1958 MPS), 800 Zorn Ave., Louisville, MP100002460

SOUTH DAKOTA

Meade County

Fort Meade Veterans Administration Hospital, (United States Third Generation Veterans Hospitals, 1946-1958 MPS), 113 Comanche Rd., Fort Meade, MP100002467

Authority: Section 60.13 of 36 CFR part 60

Dated: April 16, 2018.
J. Paul Loether,
Chief, National Register of Historic Places/National Historic Landmarks Program and Keeper, National Register of Historic Places.

[FR Doc. 2018-09383 Filed 5-2-18; 8:45 am]

BILLING CODE 4312-52-P